FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011648-007.

Title: APL/Crowley/Lykes/MLL Space Charter and Sailing Agreement.

Parties: American President Lines, Ltd., APL Co. PTE Ltd., Crowley Liner Service, Inc., Lykes Lines Limited, LLC, TMM Lines Limited, LLC.

Synopsis: The subject agreement modification adds Honduras to the Gulf/Caribbean portion of the agreement and expands the Gulf/East Coast of South America portion of the agreement to include the Atlantic Coast of Florida and Trinidad and Tobago. It also adds language to Article 5.2(a) stating that APL will not use slots within its allocation to move cargo to or from Puerto Cortes or Gulfport.

Agreement No.: 011847.

Title: The Pacific Gulf Express Agreement.

Parties: CMA CGM, S.A., P&O Nedlloyd Limited, P&O Nedlloyd B.V.

Synopsis: The agreement establishes a vessel-sharing and sailing agreement between the parties for the purpose of operating a weekly direct service between the U.S. Gulf and inland and coastal point served via such ports on the one hand and ports in the West Coast of Mexico, Panama, Jamaica and ports in the Japan/Hong Kong range (including the People's Republic of China and South Korea), including inland and Coastal points.

By Order of the Federal Maritime Commission.
Theodore A. Zook,
Assistant Secretary.

[FR Doc. 03-7958 Filed 4-1-03; 8:45 am]

BILLING CODE 6730-01-P